DEPARTMENT OF TRANSPORTATION

Federal Aviation Administration

[Docket No. FAA-2024-1481]

Notice of Intent To Designate as Abandoned Turbine Conversions, Int. Supplemental Type Certificate No. SA4293WE

AGENCY: Federal Aviation Administration (FAA) DOT.

ACTION: Notice of intent to designate Turbine Conversions, Int. Supplemental Type Certificate as abandoned; request for comments.

SUMMARY: This notice announces the FAA's intent to designate Turbine Conversions, Int. Supplemental Type Certificate (STC) No. SA4293WE as abandoned and make the related engineering data available upon request. The FAA has received a request to provide engineering data concerning this STC. The FAA has been unsuccessful in contacting Turbine Conversions, Int. concerning the STC. This action is intended to enhance aviation safety.

DATES: The FAA must receive all comments by December 2, 2024.

ADDRESSES: You may send comments on this notice by any of the following methods:

• Federal eRulemaking Portal: Go to regulations.gov. Follow the instructions for submitting comments.

• Mail: Chuck Ayala, Aviation Safety Engineer, West Certification Branch, FAA, 3960 Paramount Blvd., Suite 100 Lakewood, CA 90712-4137.

• Email: Charles.L.Ayala@faa.gov. Include “Docket No. FAA-2024-1481” in the subject line of the message.

• Hand Delivery: Deliver to mailing address above between 9 a.m. and 5 p.m., Monday through Friday, except Federal holidays.

FOR FURTHER INFORMATION CONTACT: Chuck Ayala, Aviation Safety Engineer, FAA; telephone: 562-627-5226; email: Charles.L.Ayala@faa.gov.

SUPPLEMENTARY INFORMATION:

Comments Invited

The FAA invites interested parties to provide comments, written data, views, or arguments relating to this notice. Send your comments to an address listed under the ADDRESSES section. Include “Docket No. FAA-2024-1481” at the beginning of your comments. The FAA will consider all comments received on or before the closing date. All comments received will be available in the docket for examination by interested persons.

Background

The FAA is posting this notice to inform the public of the intent to designate as abandoned Turbine Conversions, Int. STC No. SA4293WE and subsequently release the related engineering data. Turbine Conversions, Int. STC No. SA4293WE is for the removal of the original equipment engines and propellers and the installation of two Lycoming LTP101-600A-1A turbo-propeller engines and two three-bladed Hartzell HC-B3TN-3C/T10173-13Q propellers and controls including a major fuel system modification, in accordance with Riley Aircraft Corporation data, in Cessna Aircraft 421B and 421C series airplanes.

The FAA has received a third-party request for the release of the aforementioned engineering data under the provisions of the Freedom of Information Act (FOIA), 5 U.S.C. 552. The FAA cannot release commercial or financial information under FOIA without the permission of the data owner. However, in accordance with 49 U.S.C. 44704(a)(5), the FAA can provide STC “engineering data” it possesses for STC maintenance or improvement, upon request, if the following conditions are met:

1. The FAA determines the STC has been inactive for three years or more;

2. Using due diligence, the FAA is unable to locate the owner of record or the owner of record's heir; and

3. The availability of such data will enhance aviation safety.

There has been no activity on this STC for more than three years.

On October 13, 2023, the FAA sent a certified letter to Turbine Conversions, Int. at its last known address, 2016 Palomar Airport Road, Carlsbad, California 92008. The letter was returned, unable to be forwarded. The letter informed Turbine Conversions, Int. that the FAA had received a request for engineering data related to STC No. SA4293WE and was conducting a due diligence search to determine whether the STC was inactive and may be considered abandoned. The letter further requested Turbine Conversions, Int. to respond in writing within 60 days and state whether it is the holder of the STC. The FAA also attempted to make contact with Turbine Conversions, Int. by other means, including telephone communication and emails, without success.

Information Requested

If you are the owner or heir or a transferee of STC No. SA4293WE or have any knowledge regarding who may now hold STC No. SA4293WE, please contact Chuck Ayala using a method described in this notice under FOR FURTHER INFORMATION CONTACT. If you are the heir of the owner, or the owner by transfer, of STC No. SA4293WE, you must provide a notarized copy of your government-issued identification with a letter and background establishing your ownership of the STC and, if applicable, your relationship as the heir to the deceased holder of the STC.

Conclusion

If the FAA does not receive any response by December 2, 2024, the FAA will consider STC No. SA4293WE abandoned, and the FAA will proceed with the release of the requested data. This action is for the purpose of maintaining the airworthiness of an aircraft and enhancing aviation safety.

Issued on May 31, 2024.
Victor Wicklund,
Deputy Director, Compliance & Airworthiness Division, Aircraft Certification Service.

[FR Doc. 2024-12310 Filed 6-4-24; 8:45 am]

BILLING CODE 4910-13-P